DEPARTMENT OF TRANSPORTATION

Federal Aviation Administration

Sixth Meeting: RTCA Special Committee 226, Audio Systems and Equipment

AGENCY: Federal Aviation Administration (FAA), U.S. Department of Transportation (DOT).

ACTION: Meeting Notice of RTCA Special Committee 226, Audio Systems and Equipment.

SUMMARY: The FAA is issuing this notice to advise the public of the sixth meeting of the RTCA Special Committee 226, Audio Systems and Equipment.

DATES: The meeting will be held April 15-17, 2013 from 9:00 a.m.-5:00 p.m.

ADDRESSES: The meeting will be held at RTCA, 1150 18th Street NW., Suite 910, Washington, DC 20036.

FOR FURTHER INFORMATION CONTACT: The RTCA Secretariat, 1150 18th Street NW., Suite 910, Washington, DC 20036, or by telephone at (202) 330-0652/(202) 833-9339, fax at (202) 833-9434, or Web site at http://www.rtca.org. In addition, Sophie Bouquet may be contacted directly at (202) 330-0663, email: sbousquet@rtca.org.

SUPPLEMENTARY INFORMATION: Pursuant to section 10(a)(2) of the Federal Advisory Committee Act (Pub. L. 92-463, 5 U.S.C., App.), notice is hereby given for a meeting of Special Committee 226. The agenda will include the following:

• Welcome and Administrative Remarks

• Introductions

• Agenda Overview

• Review meeting minutes from January Working Group Meeting

• Comment period related to any actions taken at January Working Group Meeting

• Review previous action items

• Solicit proposals for further changes to DO-214

• Continue discussion on the following:

(a) A consistent method for testing of ANR headsets

(b) A consistent method for testing of Oxygen Mask Microphones

(c) Impedance to be used for headset standard

(d) Additional tests required for powered headsets

(e) RF susceptibility issues

• Continue review of DO-214 and draft updates & changes since last meeting

• Other Business

• Review open actions

• Establish agenda for next meeting & discuss actions to reach

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on March 15, 2013.
Paige Williams,
Management Analyst, NextGen, Business Operations Group, Federal Aviation Administration.

[FR Doc. 2013-06795 Filed 3-25-13; 8:45 am]

BILLING CODE 4910-13-P